FEDERAL COMMUNICATIONS COMMISSION

Notice of Public Information Collection(s) Being Reviewed by the Federal Communications Commission

June 3, 2005.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 15, 2005. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION:

OMB Control No.: 3060-1080.

Title: Improving Public Safety Communications in the 800 MHz Band.

Form No: N/A.

Type of Review: Extension of a currently approved collection.

Respondents: Business or other for-profit, not-for-profit institutions, and state, local and tribal government.

Number of Respondents: 2,500.

Estimated Time Per Response: 3—8 hours.

Frequency of Response: On occasion reporting requirement and third party disclosure requirement.

Total Annual Burden: 27,162 hours.

Total Annual Cost: N/A.

Privacy Act Impact Assessment: N/A.

Needs and Uses: The Commission is seeking extension (no change) to this information collection in order to obtain the full three year clearance from the OMB. This information collection contains reporting and third party disclosure requirements to resolve interference to public safety (e.g., police, fire, and other emergency first responders) communications in the 800 MHz band that are cause by Cellular Radiotelphone and Enhanced Specialized Mobile Radio (ESMR) operators. After exploring all possible technical remedies, the Commission adopted a two-prong approach to resolving interference.

In the short-term, the Commission's rules will abate interference to the extent possible. The most important of these rules imposes responsibility on the interfering carriers to remedy interference in a timely manner.

In the long-term, the Commission concluded that the entire 800 MHz band must be restructured. Band restructuring or reconfiguration refers to spectrally segregating public safety and ESMR operators as far as technically possible. To this end, Nextel Communications Inc. (Nextel) will secure a $2.5 billion letter (letters) of credit to pay for band reconfiguration. Without Nextel's support, public safety licensees could not afford the costs of relocating their systems. This information collection includes the following requirements: (1) Prior notification; (2) electronic database; (3) response to interference complaints; (4) clear and imminent danger; (5) relocation agreements; and (6) Transition Administrator.

The information collection requirements and third party disclosure requirements will be used by the Commission to ensure that Cellular/ESMR, Public Safety, Critical Infrastructure Industry (CII), and other 800 MHz licensees comply with interference mitigation and frequency relocation requirements in an orderly, timely, comprehensive fashion with no unnecessary delay.

Federal Communications Commission.
Marlene H. Dortch,
Secretary.

[FR Doc. 05-11645 Filed 6-14-05; 8:45 am]

BILLING CODE 6712-01-P